DEPARTMENT OF THE TREASURY

Office of Foreign Assets Control

Additional Designation of Entity Pursuant to Executive Order 13224

AGENCY: Office of Foreign Assets Control, Treasury.

ACTION: Notice.

SUMMARY: The Treasury Department's Office of Foreign Assets Control (“OFAC”) is publishing the name of one newly-designated entity whose property and interests in property are blocked pursuant to Executive Order 13224 of September 23, 2001, “Blocking Property and Prohibiting Transactions With Persons Who Commit, Threaten To Commit, or Support Terrorism.”

DATES: The designation by the Director of OFAC of one entity identified in this notice, pursuant to Executive Order 13224, is effective on June 13, 2008.

FOR FURTHER INFORMATION CONTACT: Assistant Director, Compliance Outreach & Implementation, Office of Foreign Assets Control, Department of the Treasury, Washington, DC 20220, tel.: 202/622-2490.

SUPPLEMENTARY INFORMATION:

Electronic and Facsimile Availability

This document and additional information concerning OFAC are available from OFAC's Web site (http://www.treas.gov/ofac) or via facsimile through a 24-hour fax-on-demand service, tel.: 202/622-0077.

Background

On September 23, 2001, the President issued Executive Order 13224 (the “Order”) pursuant to the International Emergency Economic Powers Act, 50 U.S.C. 1701-1706, and the United Nations Participation Act of 1945, 22 U.S.C. 287c. In the Order, the President declared a national emergency to address grave acts of terrorism and threats of terrorism committed by foreign terrorists, including the September 11, 2001, terrorist attacks in New York, Pennsylvania, and at the Pentagon. The Order imposes economic sanctions on persons who have committed, pose a significant risk of committing, or support acts of terrorism. The President identified in the Annex to the Order, as amended by Executive Order 13268 of July 2, 2002, 13 individuals and 16 entities as subject to the economic sanctions. The Order was further amended by Executive Order 13284 of January 23, 2003, to reflect the creation of the Department of Homeland Security.

Section 1 of the Order blocks, with certain exceptions, all property and interests in property that are in or hereafter come within the United States or the possession or control of United States persons, of: (1) Foreign persons listed in the Annex to the Order; (2) foreign persons determined by the Secretary of State, in consultation with the Secretary of the Treasury, the Secretary of the Department of Homeland Security and the Attorney General, to have committed, or to pose a significant risk of committing, acts of terrorism that threaten the security of U.S. nationals or the national security, foreign policy, or economy of the United States; (3) persons determined by the Director of OFAC, in consultation with the Departments of State, Homeland Security and Justice, to be owned or controlled by, or to act for or on behalf of those persons listed in the Annex to the Order or those persons determined to be subject to subsection 1(b), 1(c), or 1(d)(i) of the Order; and (4) except as provided in section 5 of the Order and after such consultation, if any, with foreign authorities as the Secretary of State, in consultation with the Secretary of the Treasury, the Secretary of the Department of Homeland Security and the Attorney General, deems appropriate in the exercise of his discretion, persons determined by the Director of OFAC, in consultation with the Departments of State, Homeland Security and Justice, to assist in, sponsor, or provide financial, material, or technological support for, or financial or other services to or in support of, such acts of terrorism or those persons listed in the Annex to the Order or determined to be subject to the Order or to be otherwise associated with those persons listed in the Annex to the Order or those persons determined to be subject to subsection 1(b), 1(c), or 1(d)(i) of the Order.

On June 13, 2008, the Director of OFAC, in consultation with the Departments of State, Homeland Security, Justice and other relevant agencies, designated, pursuant to one or more of the criteria set forth in subsections 1(b), 1(c) or 1(d) of the Order, one entity whose property and interests in property are blocked pursuant to Executive Order 13224.

The designee is as follows: REVIVAL OF ISLAMIC HERITAGE SOCIETY (a.k.a. ADMINISTRATION OF THE REVIVAL OF ISLAMIC HERITAGE SOCIETY COMMITTEE; a.k.a. CCFW; a.k.a. CENTER OF CALL FOR WISDOM; a.k.a. COMMITTEE FOR EUROPE AND THE AMERICAS; a.k.a. DORA E MIRESISE; a.k.a. GENERAL KUWAIT COMMITTEE; a.k.a. HAND OF MERCY; a.k.a. IHRS; a.k.a. IHYA TURAS AL-ISLAMI; a.k.a. IJHA TURATH AL-ISLAMI; a.k.a. ISLAMIC HERITAGE RESTORATION SOCIETY; a.k.a. ISLAMIC HERITAGE REVIVAL PARTY; a.k.a. JAMA'AH IHYA AL-TURAZ AL-ISLAMI; a.k.a. JAMIA IHYA UL TURATH; a.k.a. JAMI'AH AL-HIYA AL-TURATH AL ISLAMIYAH; a.k.a. JAMIAT IHIA AL-TURATH AL-ISLAMIYA; a.k.a. JAMI'AT IHY'A AL-TIRATH AL-ISLAMIA; a.k.a. JAMIATUL IHYA UL TURATH; a.k.a. JAMIATUL-YAHYA UT TURAZ; a.k.a. JAM'IYAT IHYA' AL-TURATH AL-ISLAMI; a.k.a. JAMIYAT IKHYA AT-TURAZ AL-ISLAMI, SOCIETY OF THE REBIRTH OF THE ISLAMIC PEOPLE; a.k.a. JOMIATUL EHYA-UT TURAJ; a.k.a. JOMIYATU-EHYA-UT TURAS AL ISLAMI; a.k.a. KJRC-BOSNIA AND HERZEGOVINA; a.k.a. KUWAIT GENERAL COMMITTEE FOR AID; a.k.a. KUWAITI HERITAGE; a.k.a. KUWAITI JOINT RELIEF COMMITTEE, BOSNIA AND HERZEGOVINA; a.k.a. LAJNAT AL-IHYA AL-TURATH AL-ISLAMI; a.k.a. LAJNAT IHYA AL-TURATH AL-ISLAMI; a.k.a. NARA WELFARE AND EDUCATION ASSOCIATION; a.k.a. NGO TURATH; a.k.a. ORGANIZACIJA PREPORODA ISLAMSKE TRADICIJE KUVAJT; a.k.a. PLANDISTE SCHOOL, BOSNIA AND HERZEGOVINA; a.k.a. REVIVAL OF ISLAMIC HERITAGE FOUNDATION; a.k.a. REVIVAL OF ISLAMIC SOCIETY HERITAGE ON THE AFRICAN CONTINENT; a.k.a. RIHF; a.k.a. RIHS; a.k.a. RIHS ADMINISTRATION FOR THE BUILDING OF MOSQUES AND ISLAMIC PROJECTS; a.k.a. RIHS ADMINISTRATION FOR THE COMMITTEES OF ALMSGIVING; a.k.a. RIHS AFRICAN CONTINENT COMMITTEE; a.k.a. RIHS ARAB WORLD COMMITTEE; a.k.a. RIHS AUDIO RECORDINGS COMMITTEE; a.k.a. RIHS CAMBODIA-KUWAIT ORPHANAGE CENTER; a.k.a. RIHS CENTER FOR MANUSCRIPTS COMMITTEE; a.k.a. RIHS CENTRAL ASIA COMMITTEE; a.k.a. RIHS CHAOM CHAU CENTER; a.k.a. RIHS COMMITTEE FOR AFRICA; a.k.a. RIHS COMMITTEE FOR ALMSGIVING AND CHARITIES; a.k.a. RIHS COMMITTEE FOR INDIA; a.k.a. RIHS COMMITTEE FOR SOUTH EAST ASIA; a.k.a. RIHS COMMITTEE FOR THE ARAB WORLD; a.k.a. RIHS COMMITTEE FOR THE CALL AND GUIDANCE; a.k.a. RIHS COMMITTEE FOR WEST ASIA; a.k.a. RIHS COMMITTEE FOR WOMEN; a.k.a. RIHS COMMITTEE FOR WOMEN, ADMINISTRATION FOR THE BUILDING OF MOSQUES; a.k.a. RIHS CULTURAL COMMITTEE; a.k.a. RIHS EDUCATING COMMITTEES, AL-JAHRA'; a.k.a. RIHS EUROPE AMERICA MUSLIMS COMMITTEE; a.k.a. RIHS EUROPE AND THE AMERICAS COMMITTEE; a.k.a. RIHS FATWAS COMMITTEE; a.k.a. RIHS GENERAL COMMITTEE FOR DONATIONS; a.k.a. RIHS HEADQUARTERS-KUWAIT; a.k.a. RIHS INDIAN CONTINENT COMMITTEE; a.k.a. RIHS INDIAN SUBCONTINENT COMMITTEE; a.k.a. RIHS MOSQUES COMMITTEE; a.k.a. RIHS OFFICE OF PRINTING AND PUBLISHING; a.k.a. RIHS PRINCIPLE COMMITTEE FOR THE CENTER FOR PRESERVATION OF THE HOLY QU'ARAN; a.k.a. RIHS PROJECT OF ASSIGNING PREACHERS COMMITTEE; a.k.a. RIHS PUBLIC RELATIONS COMMITTEE; a.k.a. RIHS SCIENTIFIC COMMITTEE-BRANCH OF SABAH AL-NASIR; a.k.a. RIHS SOUTHEAST ASIA COMMITTEE; a.k.a. RIHS TWO AMERICAS AND EUROPEAN MUSLIM COMMITTEE; a.k.a. RIHS WOMEN'S BRANCH FOR THE PROJECT OF ENDOWMENT; a.k.a. RIHS YOUTH CENTER COMMITTEE; a.k.a. RIHS-ALBANIA; a.k.a. RIHS-AZERBAIJAN; a.k.a. RIHS-BANGLADESH; a.k.a. RIHS-BENIN; a.k.a. RIHS-BOSNIA AND HERZEGOVINA; a.k.a. RIHS-CAMBODIA; a.k.a. RIHS-CAMEROON; a.k.a. RIHS-GHANA; a.k.a. RIHS-IVORY COAST; a.k.a. RIHS-KOSOVO; a.k.a. RIHS-LEBANON; a.k.a. RIHS-LIBERIA; a.k.a. RIHS-NIGERIA; a.k.a. RIHS-RUSSIA; a.k.a. RIHS-SENEGAL; a.k.a. RIHS-SOMALIA; a.k.a. RIHS-TANZANIA; a.k.a. SOCIETY FOR THE REVIVAL OF ISLAMIC HERITAGE; a.k.a. THE KUWAIT-CAMBODIA ISLAMIC CULTURAL TRAINING CENTER; a.k.a. THE KUWAITI-CAMBODIAN ORPHANAGE CENTER; a.k.a. THIRRJA PER UTESI), Al-Andalus, Kuwait; Al-Jahra', Kuwait; Al-Qurayn, Kuwait; Sabah Al-Nasir, Kuwait; Qurtubah, Kuwait; Hadiyah, Kuwait; Al-Qadisiyah, Kuwait; Al-Fayha', Kuwait; Al-Riqah, Kuwait; Al-Firdaws, Kuwait; Khitan, Kuwait; Al-Sabahiyah, Kuwait; Jalib Al-Shiyukh, Kuwait; Bayan Wa Mashrif, Kuwait; Sabah Al-Salim, Kuwait; Al-Rumaythiyah, Kuwait; Al-Salimiyah, Kuwait; Al-Aridiyah, Kuwait; Al-Khalidiya, Kuwait; Al-Dhahr, Kuwait; Al-Rawdah, Kuwait; Al-Shamiyah Wa Al-Shuwaykh, Kuwait; Al-Amiriyah, Kuwait; Al-Nuzhah, Kuwait; Kifan, Kuwait; House #40, Lake Drive Road, Sector #7, Uttara, Dhaka, Bangladesh; Part 5, Qurtaba, P.O. Box 5585, Safat, Kuwait; Number 28 Mula Mustafe Baseskije Street, Sarajevo, Bosnia and Herzegovina; Number 2 Plandiste Street, Sarajevo, Bosnia and Herzegovina; M.M. Baseskije Street, No. 28p, Sarajevo, Bosnia and Herzegovina; Number 6 Donji Hotonj Street, Sarajevo, Bosnia and Herzegovina; RIHS Office, Ilidza, Bosnia and Herzegovina; RIHS Alija House, Ilidza, Bosnia and Herzegovina; RIHS Office, Tirana, Albania; RIHS Office, Pristina, Kosovo; Tripoli, Lebanon; City of Sidon, Lebanon; Dangkor District, Phnom Penh, Cambodia; Kismayo, Somalia; Kaneshi Quarter of Accra, Ghana; Web site www.alturath.org. Revival of Islamic Heritage Society Offices Worldwide. [SDGT].

Dated:June 13, 2008.
Adam J. Szubin,
Director, Office of Foreign Assets Control.

[FR Doc. E8-14024 Filed 6-19-08; 8:45 am]

BILLING CODE 4811-45-P